LIBRARY OF CONGRESS

Copyright Royalty Board

[Docket No. 16-CRB-0010-SD (2014-17)]

Distribution of 2015-17 Satellite Royalty Funds

AGENCY: Copyright Royalty Board, Library of Congress.

ACTION: Notice requesting comments.

SUMMARY: The Copyright Royalty Judges announce partial settlement of controversies and request comments on a motion for partial distribution of satellite television retransmission royalties for royalty years 2015-17.

DATES: Comments are due on or before April 13, 2022.

ADDRESSES: Interested claimants must submit timely comments using eCRB, the Copyright Royalty Board's online electronic filing application, at https://app.crb.gov.

Instructions: All submissions must include a reference to the CRB and docket number 16-CRB-0010-SD (2014-17). All submissions will be posted without change to eCRB at https://app.crb.gov including any personal information provided.

Docket: For access to the docket to read submitted background documents or comments, go to eCRB, the Copyright Royalty Board's online electronic filing and case management system, at https://app.crb.gov and search for docket No. 16-CRB-0010-SD (2014-17).

FOR FURTHER INFORMATION CONTACT: Anita Brown, CRB Program Specialist, (202) 707-7658, crb@loc.gov.

SUPPLEMENTARY INFORMATION: Each year satellite television providers must submit royalty payments to the Register of Copyrights as required by the statutory license set forth in section 119 of the Copyright Act for the retransmission to satellite service subscribers of over-the-air television broadcast signals. See 17 U.S.C. 119(b). The Copyright Royalty Judges (Judges) oversee distribution of royalties to copyright owners whose works were included in a qualifying retransmission and who timely filed a claim for royalties.

Allocation of the royalties collected occurs in one of two ways. In the first instance, the Judges may authorize distribution in accordance with a negotiated settlement among all claiming parties. See id. at 119(b)(5)(B), (C). If all claimants do not reach agreement with respect to the royalties, the Judges must conduct a proceeding to determine the distribution of any royalties that remain in controversy. Id. at 119(b)(5)(B). Alternatively, the Judges may, on motion of claimants and on notice to all interested parties, authorize a partial distribution of royalties, reserving on deposit sufficient funds to resolve identified disputes. Id.; 17 U.S.C. 801(b)(3)(C).¹

¹ In authorizing a partial distribution under Section 801(b)(3)(C), the Judges must conclude that no claimant entitled to receive the requested funds has stated a reasonable objection to the partial distribution and all such claimants must (1) agree to the partial distribution, (2) sign an agreement obligating them to return any excess amounts to the extent necessary to comply with the final determination on the distribution of the fees under section 801(b)(3)(B); file the agreement with the Judges; and agree that such funds are available for distribution. 17 U.S.C. 801(b)(3)(C).

On September 15, 2021, the Judges received a Joint Notice of Final Allocation Phase Settlement and Motion for Further Distribution of 2015-17 Satellite Royalties (Notice and Motion). The parties to the Notice and Motion are all participants self-identifying as “Allocation Phase Parties” in the 2014-17 satellite royalty distribution proceeding.² The Allocation Phase Parties seek distribution of the funds in question under 17 U.S.C. 801(b)(3)(A).³ The Allocation Phase Parties represent that there are no remaining controversies regarding allocation of the 2015-17 satellite royalty funds among the self-identified categories of claimants.

² Participants self-identifying as Allocation Phase Parties are: Commercial Television Claimants; Settling Devotional Claimants; Joint Sports Claimants; Music Claimants comprising American Society of Composers, Authors and Publishers, Broadcast Music, Inc., and SESAC Performing Rights, LLC; and Program Suppliers.

³ Under section 801(b)(3)(A), the Judges may authorize distribution of funds deposited under 17 U.S.C. 119, to the extent the Judges find that the distribution is not subject to controversy.

The moving parties concede, however, the existence of controversies within most of the claimant categories, viz., claims asserted by Multigroup Claimants to funds otherwise allocable to Program Suppliers, Joint Sports Claimants, and Devotional Claimants, and claims asserted by Global Music Rights LLC to funds allocable to the Music Claimants category. Accordingly, the Allocation Phase Parties request that the Judges reserve 5% of the 2015-17 Satellite Funds currently being held by the Copyright Office to address unresolved Distribution Phase controversies and distribute the remaining 95% of those to the Allocation Phase Parties pursuant to 17 U.S.C. 801(b)(3)(A). Notice and Motion at 1-2. The parties do not seek final distribution with respect to any of the allocation categories in which there are no allocation or distribution phase controversies.

While the Judges cannot make the necessary finding to authorize the requested distribution under section 801(b)(3)(A), they will consider whether the requested distribution is warranted under section 801(b)(3)(C). The Judges hereby solicit comments on the requested distribution to determine whether any claimant entitled to receive such royalty fees has a reasonable objection to the partial distribution and whether all claimants entitled to receive such fees is willing to agree to the stipulations for such distribution under section 801(b)(3)(C) (i)-(iv). The Notice and Motion is available for review in eCRB, the CRB electronic filing site, at https://app.crb.gov.

Dated: March 8, 2022.
Suzanne M. Barnett,
Chief Copyright Royalty Judge.

[FR Doc. 2022-05270 Filed 3-11-22; 8:45 am]

BILLING CODE 1410-72-P